DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: 2002 Census of Governments Local Government Directory Survey.

Form Number(s): G-26, G-28, G-29, G-30, G-32, G-33.

OMB Approval Number: None.

Type of Request: Regular submission.

Burden Hours: 22,500 hours.

Number of Respondents: 90,000.

Average Hours Per Response: 15 minutes.

Needs and Uses: The Local Government Directory Survey will be used to update the universe list of public sector entities for the 2002 Census of Governments. Each of the 90,000 county governments, consolidated city-county governments, independent cities, towns, townships, special district governments, and public school systems designated for the census will be sent an appropriate form. Respondents will be asked to verify or correct the name and mailing address of the government, answer the questions on the form, and return the form.

The 2002 Census of Governments Local Government Directory Survey consists of three basic content areas: government organization, government finance, and government employment. For government organization we will ask for authorizing legislation, incorporation date, fiscal year ending date, area served, services provided, web address, and corrections to the name and address of the government. In addition we will ask if special districts have taxing powers, if general purpose governments and special districts own and operate the services they are responsible for providing, if school districts operate schools, and if the government conducts e-government transactions. For government finance we will ask for total revenue, total expenditure, and total debt. For government employment we will ask for full-time employees, part-time employees, and annual payroll.

The 2002 Census of Governments Local Government Directory Survey data collection forms request information that is substantially similar to that requested on the 1992 and 1997 Census of Government forms.

Affected Public: State, local, or Tribal government.

Frequency: Every five years.

Respondent's Obligation: Voluntary.

Legal Authority: Title 13 U.S.C., Section 161.

OMB Desk Officer: Susan Schechter, (202) 395-5103.

Copies of the above information collection proposal can be obtained by calling or writing Madeleine Clayton, Departmental Paperwork Clearance Officer, (202) 482-3129, Department of Commerce, Room 6086, 14th and Constitution Avenue, NW., Washington, DC 20230 (or via the Internet at mclayton@doc.gov).

Written comments and recommendations for the proposed information collection should be sent within 30 days of publication of this notice to Susan Schechter, OMB Desk Officer, Room 10201, New Executive Office Building, Washington, DC 20503.

Dated: July 19, 2001.
Gwellnar Banks,
Management Analyst, Office of the Chief Information Officer.

[FR Doc. 01-18387 Filed 7-23-01; 8:45 am]

BILLING CODE 3510-07-P